DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Islands Region Permit Family of Forms.

Form Number(s): None.

OMB Approval Number: 0648-0490.

Type of Request: Regular submission.

Burden Hours: 192.

Number of Respondents: 276.

Average Hours per Response: Shallow-set certificate requests, 10 minutes; Northwest Hawaiian Islands Bottomfish permit applications, 1 hour; American Samoa Longline permit applications, 45 minutes; all other applications, half an hour; appeals, 2 hours.

Needs and Uses: Fishermen in Federally-managed fisheries in the western Pacific region are required to maintain valid fishing permits on-board their vessels at all times. The permits are generally renewed annually and are needed to identify participants in the fisheries. Permits also are important to help measure impacts of management controls on the participants in the fisheries of the U.S. exclusive economic zone (EEZ) in the western Pacific.

Affected Public: Business or other for-profit organizations.

Frequency: Annually, every three years, and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Fax number (202) 395-7285, or David_Rostker@omb.eop.gov.

Dated: April 15, 2008.
Gwellnar Banks,
Management Analyst, Office of the Chief Information Officer.

[FR Doc. E8-8411 Filed 4-18-08; 8:45 am]

BILLING CODE 3510-22-P